DEPARTMENT OF HEALTH AND HUMAN SERVICES

National Institutes of Health

National Institute of Allergy and infectious Diseases; Notice of Meeting: Chronic Fatigue Syndrome Coordinating Committee

In accordance with section 10(a) of the Federal Advisory Committee Act, as amended (5 U.S.C., Appendix 2), the National Institute of Allergy and Infectious Disease (NIAID), National Institutes of Health (NIH) announces the following committee meeting.

Name: Chronic Fatigue Syndrome Coordinating Committee (CFSCC).

Time and Date: Tuesday, February 8, 2000, 9:00 a.m.-5 p.m.

Place: Hubert H. Humphrey Building, Room 800, 200 Independence Avenue, SW, Washington, DC.

Status: Open to the public, limited only by the space available. The meeting room will accommodate approximately 100 people.

Notice: In the interest of security, the Department has instituted stringent procedures for entrance to the Hubert H. Humphrey Building by non-government employees. Thus, persons without a government identification card will need to provide a photo ID and must know the subject and room number of the meeting in order to be admitted into the building. Visitors must use the Independence Avenue entrance.

Purpose: The Committee is charged with providing advice to the Secretary, the Assistant Secretary for Health, and the Commissioner, Social Security Administration (SSA), to assure interagency coordination and communication regarding chronic fatigue syndrome (CFS) research and other related issues; facilitating increased Department of Health and Human Services (HHS) and agency awareness of CFS research and educational needs; developing complementary research programs that minimize overlap; identifying opportunities for collaborative and/or coordinated efforts in research and education; and developing informed responses to constituency groups regarding HHS and SSA efforts and progress.

Matters To Be Discussed: A report on CDC's CFS Scientific Review; and report on NIH's CFS consultation. Agenda items are subject to change as priorities dictate.

Public Comments will be received at the meeting for a total of not more than 60 minutes. Persons wishing to make oral comments either in person or via a video should notify the contact person listed below no later than close of business on January 26, 2000. A lottery system will be utilized to select speakers only if the number of requests exceed the number of slots, and those selected through this process will be notified on January 26 or soon thereafter. If a selected individual is unable to deliver their testimony at the meeting or submit their video prior to the meeting, their testimony slot will be filed on a first come first served basis on the day of the meeting following an announcement soliciting substitutes by the Chair. Testimony presented to the Committee on the day of the meeting will become part of the public record. Due to the time available, public comments will be limited to five minutes per person. Copies of any written comments should be provided to the Executive Secretary at the meeting; in addition, please provide at least 50 copies for distribution to Committee members and attendees.

Contact Person for More Information: Louise Garnett, Program Coordinator, Division of Microbiology and Infectious Diseases, NIAID, NIH, 6700B Rockledge Drive, Room 3266, Bethesda, MD 20892, telephone 301-496-1884, fax 301-480-4528.

(Catalogue of Federal Domestic Assistance Program Nos. 93.855, Allergy, Immunology and Transplantation Research; 93.856, Microbiology and Infectious Diseases Research, National Institutes of Health, HHS)

Dated: January 5, 2000.
LaVerne Y. Stringfield,
Director, Office of Federal Advisory Committee Policy.

[FR Doc. 00-1150 Filed 1-18-00; 8:45 am]

BILLING CODE 4140-01-M